DEPARTMENT OF THE INTERIOR

National Park Service

[NPS-WASO-NRNHL-11495; 2200-3200-665]

National Register of Historic Places; Notification of Pending Nominations and Related Actions

Nominations for the following properties being considered for listing or related actions in the National Register were received by the National Park Service before October 6, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by November 23, 2012. Before including your address, phone number, email address, or other personal identifying information in your comment, you should be aware that your entire comment—including your personal identifying information—may be made publicly available at any time. While you can ask us in your comment to withhold your personal identifying information from public review, we cannot guarantee that we will be able to do so.

Dated: October 12, 2012.
Robie Lange,
Acting Chief, National Register of Historic Places/National Historic Landmarks Program.

IOWA

Benton County

Central Vinton Residential Historic District, Roughly bounded by 2nd & D Aves., W. 13th & W. 6th Sts., Vinton, 12000948

MASSACHUSETTS

Middlesex County

Peacock Farm Historic District, (Mid-Century Modern Houses of Lexington, Massachusetts MPS) 1-6 Compton Cir., 1-5 Mason St., 2-53 Peacock Farm Rd., 4-17 Trotting Horse Dr., Lexington, 12000949

MISSOURI

St. Louis Independent city

Tillie's Corner, 1351 & 1353 N. Garrison Ave., St. Louis (Independent City), 12000950

NEW JERSEY

Essex County

Newark Penn Station and Dock Bridge (Boundary Increase), Raymond Plaza West, Newark, 12000951

NEW YORK

Cayuga County

Cottage Farm, 14475 Richmond Ave., Fair Haven, 12000952

Chemung County

Riverside Cemetery, Cty. Rd. 60, Lowman, 12000953

Essex County

Cure Cottage at 43 Forest Hill Avenue, (Saranac Lake MPS) 43 Forest Hill Ave., Saranac Lake, 12000954

Jefferson County

Grenadier Island Schoolhouse, Grenadier Island Rd. 3, Grenadier Island, 12000955

Lewis County

Lewis, Harry and Molly, House, 9520 E. Main St., Beaver Falls, 12000956

Niagara County

Dick Block, The, 62 Webster St., North Tonawanda, 12000957

Orange County

Union Chapel, Shore Rd., Cornwall-on-Hudson, 12000958

Rensselaer County

Oakwood Avenue Presbyterian Church, 313 10th St., Troy, 12000959

Schuyler County

St. James Episcopal Church, 112 6th St., Watkins Glen, 12000960

Ulster County

Shady Brook Farm, 351 Old Post Rd., Marlboro, 12000961

Wyoming County

Exchange Street Historic District, 15-48 Exchange St. & Erie RR Depot, Attica, 12000962

Warsaw Downtown Historic District, N. & S. Main between Frank & Brooklyn Sts., Warsaw, 12000963

OREGON

Wallowa County

Wallowa County Chieftain Building, (Downtown Enterprise MPS) 106 NW. 1st St., Enterprise, 12000964

SOUTH CAROLINA

Beaufort County

Cherry Hill School, 210 Dillon Rd., Hilton Head Island, 12000965

TENNESSEE

Bedford County

Raus School, 125 Smith Chapel Rd., Raus, 12000966

Williamson County

Leipers Fork Historic District (Boundary Increase), 4000 blk. of Old Hillsboro Rd., Leipers Fork, 12000967

VIRGINIA

Roanoke Independent city

Carlin's Amoco Station, (Gas Stations of Roanoke, Virginia MPS) 1721 Williamson Rd. NE., Roanoke (Independent City), 12000968

Norfolk & Western Railway Freight Station, 303 Norfolk Ave., Roanoke (Independent City), 12000969

Rogers, Tayloe, House, 1542 Electric Rd., Roanoke (Independent City), 12000970

WISCONSIN

Milwaukee County

Milwaukee Pierhead Light, (Light Stations of the United States MPS) Milwaukee Harbor entry N. pier, SE. corner of H.W. Maier Festival Park, Milwaukee, 12000971

[FR Doc. 2012-27165 Filed 11-6-12; 8:45 am]

BILLING CODE 4312-51-P